DEPARTMENT OF HOMELAND SECURITY

Bureau of Customs and Border Protection

Notice of Cancellation of Customs Broker Permit

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker permits are cancelled without prejudice.

Name | Permit # | Issuing port
A.P. Champagne Company, Inc | 002 | New Orleans.
International Freight Forwarders, Inc | 14074 | Norfolk.
Menlo Worldwide Trade Services, Inc | 14075 | Norfolk.
Hub Forwarding Company, Inc | 04-0141 | Boston.
Menlo Worldwide Trade Services, Inc | 04-0016 | Boston.
Brent D. Powell | 04-03-AXE | Boston.
Vastera Solutions | 04-0158 | Boston.
Mark K. Neville, Jr. | 04-0132 | Boston.
Brian A. Hill | 04-03-BBL | Boston.
American Shipping Co., Inc | 04-0155 | Boston.
Galaxy Customhouse Brokers, Inc | 92103 | Los Angeles.
Elizabeth Chapman | 28-05-BLQ | San Francisco.
David Saliba | 6416 | Dallas.
Eric Peterson | 26-05-JB7 | Nogales.
J.L.W. Associates, Inc | 00/17/001 | Savannah.
Len M. Miyar | 52-04-BJJ | Miami.
Jorg Berger | 4864 | San Francisco.

Dated: December 6, 2005.
Jayson P. Ahern,
Assistant Commissioner, Office of Field Operations.

[FR Doc. 05-23990 Filed 12-12-05; 8:45 am]

BILLING CODE 9111-14-P